DEPARTMENT OF HEALTH AND HUMAN SERVICES

Center for Indigenous Innovation and Health Equity Tribal Advisory Committee; Solicitation of Nominations for Delegates

AGENCY: Office of Minority Health, Office of the Secretary, Department of Health and Human Services.

ACTION: Notice of solicitation of nominations for delegates for the Center for Indigenous Innovation and Health Equity Tribal Advisory Committee.

SUMMARY: The U.S. Department of Health and Human Services (HHS) Office of Minority Health (OMH) hereby gives notice that OMH is establishing a Center for Indigenous Innovation and Health Equity Tribal Advisory Committee (CIIHE TAC) and accepting nominations of qualified candidates to serve as primary and alternate delegates for the CIIHE TAC, in alignment with the 12 geographic areas served by the Indian Health Service (IHS).

DATES: Nomination letters for the CIIHE TAC must be sent to the address noted below no later than 6:00 p.m. EST on October 29, 2021.

ADDRESSES: All nominations should be emailed to: Violet Woo, Designated Federal Officer for the CIIHE TAC, at Violet.Woo@hhs.gov. Please use the subject line “OMH CIIHE Tribal Advisory Committee”.

FOR FURTHER INFORMATION CONTACT: For information and guidance about the nomination process for CIIHE TAC delegates, please contact Violet Woo, Designated Federal Officer at Violet.Woo@hhs.gov. CIIHE TAC nomination guidance and sample nomination letters also are available on the OMH website's Tribal Leader Letters section: https://www.minorityhealth.hhs.gov/omh/browse.aspx?lvl=3&lvlid=62#tribal-leader-letters.

SUPPLEMENTARY INFORMATION: Authorized under Section 1707 of the Public Health Service Act, 42 U.S.C. 300u-6, as amended, the mission of OMH is to improve the health of racial and ethnic minority populations through the development of health policies and programs that help eliminate health disparities. OMH awards and other activities are intended to support the identification of effective policies, programs, and practices for improving health outcomes and to promote the sustainability and dissemination of these approaches.

Under the authority of Public Law 116-260 (2021 Consolidated Appropriations Act), Congress directed OMH to create a CIIHE to support research, education, service, and policy development advancing Indigenous solutions that ultimately address health disparities in American Indian/Alaska Native (AI/AN) and Native Hawaiian and Pacific Islander (NHPI) populations. OMH is establishing the CIIHE TAC to ensure that Tribal Leaders have meaningful and timely input in the development of the priorities and activities established to address the focus areas of the CIIHE. The CIIHE TAC shall support, but not supplant, government-to-government consultation activities that OMH undertakes.

TAC Membership: The CIIHE TAC will consist of 16 delegate positions: One from each of the 12 geographic areas served by the Indian Health Service and four National At-Large Member positions.

Alaska Area

Albuquerque Area

Bemidji Area

Billings Area

California Area

Great Plains Area

Nashville Area

Navajo Area

Oklahoma Area

Phoenix Area

Portland Area

Tucson Area

National At-Large Members (4)

OMH recommends a two (2) year term length for each delegate, but delegates' term length will be established by the TAC's charter.

Eligibility: The CIIHE TAC delegates must be: (1) Elected tribal officials from a federally recognized tribe acting in their official capacity as elected officials of their tribe, with authority to act on behalf of the tribe; or (2) individuals designated by an elected tribal official. Designees must have the authority to act on behalf of the tribal official and the tribe and be qualified to represent the views of the AI/AN tribes in the area from which they are nominated. No delegate of the CIIHE TAC may be an employee of the federal government.

Nomination Procedures: CIIHE TAC candidates must be nominated by an elected tribal leader. The nomination letter must be on tribal letterhead and signed by an elected tribal leader, and must include the following information:

• Name of the nominee

• Nominee's official title

• Name of the nominee's tribe

• Date of nominee's election to official tribal position and term length

• Nominee's contact information (mailing address, phone, and email)

• Nominee's expertise that is relevant to the CIIHE TAC

• Name of tribal leader submitting the nomination

• Official title of tribal leader submitting the nomination

• Contact information for tribal leader submitting the nomination and/or administrative office for tribal government

CIIHE TAC nomination guidance and sample nomination letters are available on the OMH website's Tribal Leader Letters section: https://www.minorityhealth.hhs.gov/omh/browse.aspx?lvl=3&lvlid=62#tribal-leader-letters.

Selection Process: OMH is responsible for selecting and finalizing CIIHE TAC members.

Eligible nominees will be considered in the following priority order:

1. Tribal President/Chairperson/Governor

2. Tribal Vice-President/Vice-Chairperson/Lt. Governor

3. Elected or Appointed Tribal Official

4. Designated Tribal Official with authority to act on behalf of Tribal leader

In the event that there is more than one nomination for a given IHS area, OMH will make a determination of representation based on submitted nomination materials.

Nominees will be notified of the status of delegate selection in November 2021.

Dated: September 24, 2021.
Violet Woo,
Designated Federal Officer, Center for Indigenous Innovation and Health Equity Tribal Advisory Committee.

[FR Doc. 2021-21253 Filed 9-30-21; 8:45 am]

BILLING CODE 4150-29-P